DEPARTMENT OF THE INTERIOR

Bureau of Land Management

[NV-040-04-5101-ER-F344; N-78091]

Notice of Intent To Prepare an Environmental Impact Statement (EIS) for the Proposed White Pine Energy Station, a Coal-Fired, Water-Cooled, Electric Power Plant, and Associated Ancillary Facilities in White Pine County, Nevada and a Notice of Public Meetings

AGENCY: Bureau of Land Management, Interior.

ACTION: Notice of intent.

SUMMARY: Under section 102(2)(C) of the National Environmental Policy Act of 1969, the Bureau of Land Management (BLM), Ely Field Office, will be directing the preparation of an EIS and conducting public scoping meetings for the proposed White Pine Energy Station, a coal-fired, water-cooled, electric power plant and associated ancillary facilities. The EIS will assess the potential impacts of rights-of-way (ROW), a conveyance, or a commercial lease for a proposed power-generating facility and ROW for the proposed associated ancillary facilities in White Pine County, Nevada.

The proposed White Pine Energy Station includes up to two 500 to 800 megawatt coal-fired generating units and other related facilities, including but not limited to, a rail loop, coal unloading, handling and storage facilities, solid waste disposal facility, water storage and treatment facilities, evaporation pond, cooling towers, electric switchyard and support buildings. Ancillary facilities would include wells, water pipeline and related facilities, rail spur, access roads and electric transmission facilities, which include electric transmission lines and two electric substations.

DATES: The publication of this notice initiates the public scoping process and comment period. Comments on the scope of the EIS, including concerns, issues, or proposed alternatives that should be considered in the EIS should be submitted in writing to the address below. Comments will be accepted until September 7, 2004. This scoping notice will be distributed by mail on or about the date of this notice. All comments received at the public scoping meetings or through submitted written comments will aid the BLM in identifying alternatives and mitigating measures to assure all issues are analyzed in the EIS. The scoping meetings are scheduled as follows: Tuesday, August 24, 2004, 5 p.m. to 8 p.m. at the Bristlecone Convention Center, 150 6th St., Ely, Nevada. Wednesday, August 25, 2004, 5 p.m. to 8 p.m. at the Airport Plaza, 1981 Terminal Way, Reno, Nevada.

ADDRESSES: Information and a copy of this notice of intent for the White Pine Energy Station can be obtained by writing to the Bureau of Land Management, Ely Field Office, HC 33 Box 33500, Ely, Nevada 89301, or visiting the Ely Field Office at 702 North Industrial Way, Ely, NV 89301.

Written comments on the proposed EIS should be mailed to Doris Metcalf or Susan Baughman, Bureau of Land Management, Ely Field Office, HC 33 Box 33500, Ely, Nevada 89301.

FOR FURTHER INFORMATION CONTACT: Doris Metcalf at (775) 289-1852, e-mail Doris_Metcalf@nv.blm.gov, or Susan Baughman at (775) 289-1827, e-mail Susan_Baughman@nv.blm.gov.

SUPPLEMENTARY INFORMATION: The proposed White Pine Energy Station would be located in the eastern part of Nevada in White Pine County. The proposed power plant site would be accessible via an access road from Highway 93. The water wells, the water pipeline and related facilities, rail spur and one electric substation would be located in mostly flat terrain along the Steptoe Valley floor. The electric transmission line ROW would begin at a proposed new electric substation adjacent to the power plant site and would mostly follow a previously permitted utility corridor through Steptoe Valley, across the Egan Range, through Butte Valley and terminate near Robinson Summit at the second proposed electric substation. The proposed second electric substation would be accessible via an access road from Highway 50. An additional electric transmission line ROW would be needed to loop an existing electric transmission line located about ½ mile south of the proposed second electric substation into the proposed second electric substation.

The proposed power plant development area and ancillary facilities would encompass approximately 2,800 acres: approximately 1,300 acres would be required for the power plant site and access, approximately 1,250 acres would be used for ancillary facilities, and approximately 250 acres would be used for temporary construction laydown for the ancillary facilities. The facilities would be generally located within and/or across the following sections of public land:

Mount Diablo Meridian, White Pine County, Nevada

Power Plant Site & Access Road

T. 21 N., R. 64 E., Sections 4, 5, 6,

T. 22 N., R. 64 E., Sections 29, 30, 31 & 32.

Rail Spur

T. 22 N., R. 64 E., Section 31

T. 22 N., R 63 E., Section 36.

Transmission Line

T. 18 N., R. 60 E., Sections 6, 7, 18, 19,

T. 19 N., R. 61 E., Sections 1, 10, 11, 12, 14, 15, 16, 21, 22, 28, 29, 30, 31

T. 19 N., R. 62 E., Section 6,

T. 20 N., R. 62 E., Sections 13, 14, 15, 21, 22, 23, 28, 29, 31, 32,

T. 20 N., R. 63 E., Sections 1, 2, 7, 8, 9, 10, 11, 17, 18,

T. 21 N., R. 63 E., Sections 1, 2, 11, 14, 23, 26, 34, 35,

T. 21 N., R.64 E., Section 5 & 6.

Electric Substations & Access Roads

T. 21 N., R. 64 E., Section 4, 5,

T. 18 N., R. 61 E., Sections 18 & 19.

Water Facilities

T. 19 N., R. 63 E., Sections 24 & 25

T. 19 N., R. 64 E., Sections 6, 7, 18, 19, 30,

T. 20 N., R. 64 E., Sections 4, 8, 9, 17, 19, 20, 30, 31,

T. 21 N., R. 64 E., Sections 5, 6, 8, 17, 20, 29, 31, 32,

T. 22 N., R. 64 E., Sections 5, 6, 7, 18, 19, 20, 29, 30, 32,

T. 23 N., R. 63 E., Sections 13, 14, 15, 16,

T. 23 N., R. 64 E., Sections 4, 9, 16, 17, 18, 20, 29, 31, 32,

T. 24 N., R. 64 E., Sections 2, 10, 11, 15, 22, 27, 28, 33,

T. 25 N., R. 64 E., Sections 13, 24, 25, 26, 35,

T. 25 N., R. 65 E., Sections 4, 5, 7, 8, 18,

T. 26 N., R. 65 E., Sections 23, 26, 27, 33, 34.

A map of the proposed project is available for viewing at the Bureau of Land Management, Ely Field Office, 702 North Industrial Way, Ely, NV 89301.

Public Scoping Meetings: Two public scoping meetings are planned. The meetings will provide the public an opportunity to present comments concerning the Proposed Action that will be addressed in the EIS. The meetings will be held in an “open house format” beginning at 5 p.m. and ending at 8 p.m. Meetings have been scheduled for the following locations:

• Tuesday, August 24, 2004, 5 p.m. to 8 p.m. at the Bristlecone Convention Center, 150 6th St., Ely, Nevada.

• Wednesday, August 25, 2004, 5 p.m. to 8 p.m. at the Airport Plaza, 1981 Terminal Way, Reno, Nevada.

Dated: July 12, 2004.
Jeffrey A. Weeks,
Acting Field Manager.

[FR Doc. 04-18130 Filed 8-5-04; 8:45 am]

BILLING CODE 4310-HC-P